DEPARTMENT OF ENERGY

Western Area Power Administration

Post-2009 Resource Pool, Loveland Area Projects

AGENCY: Western Area Power Administration, DOE.

ACTION: Notice of request for letters of interest.

SUMMARY: The Western Area Power Administration (Western), Rocky Mountain Region, a Federal power marketing agency of the Department of Energy (DOE), is publishing this notice of Request for Letters of Interest to determine which eligible new customers may be interested in an allocation of Federal power, and to gather information and comments to aid Western in determining the appropriate purposes for a proposed Loveland Area Projects (LAP) resource pool. Under the Energy Planning and Management Program (Program), a Federal power resource pool of up to 1 percent (not to exceed 7 megawatts) of the LAP's long-term marketable resource may become available October 1, 2009, within the LAP marketing area. This Federal Register notice initiates the process for the proposed resource pool.

DATES: Western will hold one public information forum on July 23, 2007, at 1:30 p.m. MDT.

ADDRESSES: The public information forum will be held at the Radisson Stapleton Plaza, 3333 Quebec Street, Denver, Colorado.

Send Letters of Interest to Mr. James D. Keselburg, Regional Manager, Rocky Mountain Region, Western Area Power Administration, 5555 East Crossroads Boulevard, Loveland, CO 80538-8986, or e-mail POST2009LAP@wapa.gov.

FOR FURTHER INFORMATION CONTACT: Ms. Melanie Reed, Contracts and Energy Services Manager, Rocky Mountain Region, Western Area Power Administration, 5555 East Crossroads Boulevard, Loveland, CO 80538-8986, telephone (970) 461-7229, e-mail mreed@wapa.gov.

SUPPLEMENTARY INFORMATION: On October 20, 1995, Western published the Final Program Rule at 60 FR 54151. The Final Rule became effective on November 20, 1995. Subpart C-Power Marketing Initiative of the Program, 10 CFR part 905, provides for project-specific resource pools and allocations of power from these pools to eligible new customers and/or for other appropriate purposes as determined by Western. The goal of the Program is to require planning for efficient electric energy use by Western's long-term firm power customers. Specifically, 10 CFR part 905.32 (b) provides:

At two 5-year intervals after the effective date of the extension to existing customers, Western shall create a project-specific resource pool increment of up to an additional 1 percent of the long-term marketable resource under contract at the time. The size of the additional resource pool increment shall be determined by Western based on consideration of the actual fair-share needs of eligible new customers and other appropriate purposes.

Letters of Interest for the proposed LAP resource pool should contain the following information: Name(s) of the interested entity, entity's interest, geographic location of the entity, and suggested appropriate purposes of the resource pool. Letters of Interest will aid Western in determining potential eligible new customers as well as the appropriate purposes for the proposed resource pool. All Letters of Interest must be received by 4 p.m., MDT, on August 20, 2007. Letters of Interest submitted via regular mail through the United States Postal Service will be accepted if postmarked at least 3 days before August 20, 2007, and received no later than August 24, 2007. Western reserves the right to not consider any Letters of Interest that are received after the prescribed dates. Western does not consider that a Letter of Interest is an application for power from the proposed LAP Resource Pool. If Western decides to create the resource pool, it will publish a separate Federal Register notice seeking applications.

Availability of Information

All documents developed or retained by Western in developing this Post-2009 Resource Pool will be available for inspection and copying at the Rocky Mountain Regional office in Loveland, Colorado. Letters of Interest will be available for viewing at http://www.wapa.gov/rm/PMcontractRM/Post2009.html after the close of the submittal period.

Resource Pool Procedure Requirements

Determination Under Executive Order 12866

Western has an exemption from centralized regulatory review under Executive Order 12866; accordingly, no clearance of this notice by the Office of Management and Budget is required.

Environmental Compliance

Western completed an environmental impact statement on the Program, pursuant to the National Environmental Policy Act of 1969 (NEPA). The Record of Decision was published in the Federal Register on October 12, 1995 (60 FR 53181). Western will comply with any additional NEPA requirements for this resource pool.

Dated: June 14, 2007.
Timothy J. Meeks,
Administrator.

[FR Doc. E7-12218 Filed 6-22-07; 8:45 am]

BILLING CODE 6450-01-P